DEPARTMENT OF ENERGY

Federal Energy Regulatory Commission

Combined Notice of Filings #1

Take notice that the Commission received the following exempt wholesale generator filings:

Docket Numbers: EG23-1-000.

Applicants: Doc Brown LLC.

Description: Doc Brown LLC submits Notice of Self-Certification of Exempt Wholesale Generator Status.

Filed Date: 10/3/22.

Accession Number: 20221003-5313.

Comment Date: 5 p.m. ET 10/24/22.

Docket Numbers: EG23-2-000.

Applicants: Pleasant Hill Solar, LLC.

Description: Pleasant Hill Solar, LLC submits Notice of Self-Certification of Exempt Wholesale Generator Status.

Filed Date: 10/4/22.

Accession Number: 20221004-5089.

Comment Date: 5 p.m. ET 10/25/22.

Docket Numbers: EG23-4-000.

Applicants: Watlington Solar, LLC.

Description: Notice of Self-Certification of Exempt Wholesale Generator status of Watlington Solar, LLC.

Filed Date: 10/4/22.

Accession Number: 20221004-5103.

Comment Date: 5 p.m. ET 10/25/22.

Take notice that the Commission received the following electric rate filings:

Docket Numbers: ER14-2666-006; ER15-1218-013; ER16-38-011; ER16-39-010; ER16-2501-007; ER16-2502-007; ER17-157-006; ER17-2341-008; ER17-2453-007; ER18-713-006; ER18-1775-005; ER20-2888-005.

Applicants: Townsite Solar, LLC, Avalon Solar Partners, LLC, Tropico, LLC, Nicolis, LLC, 64KT 8me LLC, Solar Star California XIII, LLC, Kingbird Solar B, LLC, Kingbird Solar A, LLC, Moapa Southern Paiute Solar, LLC, Imperial Valley Solar 3, LLC, CA Flats Solar 150, LLC, CA Flats Solar 130, LLC.

Description: Supplement to June 30, 2022 Triennial Market Power Analysis for Southwest Region of Avalon Solar Partners, LLC, et al.

Filed Date: 8/12/22.

Accession Number: 20220812-5081.

Comment Date: 5 p.m. ET 10/14/22.

Docket Numbers: ER22-59-000.

Applicants: Navajo Tribal Utility Authority.

Description: Third Amendment to October 6, 2021 Petition for Limited Waiver of the Navajo Tribal Utility Authority tariff filing.

Filed Date: 9/30/22.

Accession Number: 20220930-5469.

Comment Date: 5 p.m. ET 10/20/22.

Docket Numbers: ER22-2974-001.

Applicants: Southwest Power Pool, Inc., Nebraska Public Power District.

Description: Tariff Amendment: Nebraska Public Power District submits tariff filing per 35.17(b): Nebraska Public Power District Amendment to Revisions to FR Protocols Filing to be effective 11/30/2022.

Filed Date: 10/4/22.

Accession Number: 20221004-5157.

Comment Date: 5 p.m. ET 10/25/22.

Docket Numbers: ER23-10-000.

Applicants: Wilderness Line Holdings, LLC.

Description: Request for Waiver of Wilderness Line Holdings, LLC.

Filed Date: 9/30/22.

Accession Number: 20220930-5465.

Comment Date: 5 p.m. ET 10/21/22.

Docket Numbers: ER23-11-000.

Applicants: Southwest Power Pool, Inc.

Description: § 205(d) Rate Filing: Ministerial Filing of Non-Substantive Revisions to SPP-MISO JOA to be effective 12/5/2022.

Filed Date: 10/4/22.

Accession Number: 20221004-5050.

Comment Date: 5 p.m. ET 10/25/22.

Docket Numbers: ER23-12-000.

Applicants: American Electric Power Service Corporation, Appalachian Power Company, PJM Interconnection, L.L.C.

Description: § 205(d) Rate Filing: American Electric Power Service Corporation submits tariff filing per 35.13(a)(2)(iii: AEP submits update to Attachment 1 of ILDSA, SA No. 1338 to be effective 12/4/2022.

Filed Date: 10/4/22.

Accession Number: 20221004-5091.

Comment Date: 5 p.m. ET 10/25/22.

Docket Numbers: ER23-13-000.

Applicants: Southwest Power Pool, Inc.

Description: § 205(d) Rate Filing: 3293R4 Thunderhead Wind Energy GIA to be effective 10/5/2022.

Filed Date: 10/4/22.

Accession Number: 20221004-5104.

Comment Date: 5 p.m. ET 10/25/22.

Docket Numbers: ER23-14-000.

Applicants: Black Hills Colorado Electric, LLC.

Description: § 205(d) Rate Filing: Certificate of Concurrence for PSCo BAASA and Request for Waiver to be effective 10/1/2022.

Filed Date: 10/4/22.

Accession Number: 20221004-5132.

Comment Date: 5 p.m. ET 10/25/22.

Docket Numbers: ER23-15-000.

Applicants: New York Independent System Operator, Inc., Central Hudson Gas & Electric Corporation.

Description: § 205(d) Rate Filing: New York Independent System Operator, Inc. submits tariff filing per 35.13(a)(2)(iii: Joint 205: EPCA among NYISO, Central Hudson, and Flint Mine (SA No. 2731) to be effective 9/20/2022.

Filed Date: 10/4/22.

Accession Number: 20221004-5166.

Comment Date: 5 p.m. ET 10/25/22.

Take notice that the Commission received the following electric securities filings:

Docket Numbers: ES23-1-000.

Applicants: Oklahoma Gas and Electric Company.

Description: Application Under Section 204 of the Federal Power Act for Authorization to Issue Securities of Oklahoma Gas and Electric Company.

Filed Date: 10/3/22.

Accession Number: 20221003-5358.

Comment Date: 5 p.m. ET 10/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2022.
Debbie-Anne A. Reese,
Deputy Secretary.

[FR Doc. 2022-22035 Filed 10-7-22; 8:45 am]

BILLING CODE 6717-01-P